GENERAL SERVICES ADMINISTRATION

Public Buildings Service; Notice of Availability; Environmental Assessment and Finding of No Significant Impact, Warroad, MN

ACTION: Notice.

SUMMARY: The General Services Administration (GSA), Public Buildings Service (PBS), is publishing a final Environmental Assessment (EA) and Finding of No Significant Impact (FONSI) for the proposed construction of a new border station, or Land Port of Entry (LPOE), in Warroad, Minnesota.

FOR FURTHER INFORMATION CONTACT: Mr. Glenn Wittman, Regional Environmental Quality Advisor, Knowledge Management and Advocacy Branch, Expert Resources Division, US General Services Administration, 230 South Dearborn Street, Chicago, IL 60604, phone: 312-353-6871, or e-mail: glenn.wittman@gsa.gov.

SUPPLEMENTARY INFORMATION: The US Border Station at Warroad, Minnesota, is a 24-hour per day LPOE where the Federal government inspects commercial and noncommercial traffic entering the United States from Manitoba, Canada. Approximately 157,000 cars, commercial trucks, and buses cross the border at this station annually. Constructed in 1962, the facility was built to accommodate a staff of two people and a traffic count only a fraction of the current total. Today, the station must accommodate a staff of about 20 to handle the increased traffic volume. The present facility is overcrowded, outdated, and functionally obsolete.

The GSA, at the request of the US Department of Homeland Security, Bureau of Customs and Border Protection, proposes to construct a new, larger, border station facility south of the existing site, which is located about six miles northwest of the city of Warroad, Minnesota, at the US-Canada border. Details of the Proposed Action are described in a National Environmental Policy Act (NEPA) document entitled Environmental Assessment, Proposed New Border Station, Warroad, Minnesota, Roseau County (US General Services Administration, August 2007). Comments received during a May 10, 2006, public scoping meeting and subsequent comment period were considered by GSA in this final decision.

This action includes mitigation measures to reduce impacts to wetlands, soils, and site residents as identified in the EA to a level that is less than significant. Mitigation will involve minimizing impacts to the environment by limiting the degree of disturbance from construction activities and by compensating for impacts to wetlands and displaced residents.

Finding

Pursuant to the provision of GSA Order ADM 1095.1F, the PBS NEPA Desk Guide, and the regulations issued by the Council on Environmental Quality (CEQ) (40 CFR parts 1500 to 1508), this notice advises the public of our finding that the action described above will not significantly affect the quality of the human environment.

Basis for Finding

The environmental impacts of constructing and operating the proposed facility were considered in the final EA and FONSI pursuant to the NEPA and the CEQ regulations implementing NEPA. The EA and FONSI are available for review at the Warroad Public Library, 202 Main Street, Warroad, MN 56763. Copies also are being distributed to local, State, and Federal stakeholders as appropriate.

The build alternative will result in temporary construction impacts involving air quality (dust) and noise, minor loss of soil and vegetation, and potential storm water runoff from the site. To mitigate long-term impacts, GSA will implement the measures that are discussed in the EA.

The FONSI will become final thirty (30) days after the publication of this notice provided that no information leading to a contrary finding is received or comes to light during this period.

Dated: September 4, 2007.
James C. Handley,
Regional Administrator, GSA Region 5.

[FR Doc. E7-17875 Filed 9-10-07; 8:45 am]

BILLING CODE 6820-A9-S